Proclamation 9390 of January 15, 2016

Martin Luther King, Jr., Federal Holiday, 2016

By the President of the United States of America

A Proclamation

With profound faith in our Nation's promise, the Reverend Dr. Martin Luther King, Jr., led a non-violent movement that urged our country's leaders to expand the reach of freedom and provide equal opportunity for all. Dr. King joined a long line of heroes and vindicated the belief at the heart of our founding: that humble citizens, armed with little but faith, can come together to change the world and remake an America that more closely aligns with our highest ideals.

Dr. King recognized that, as a country built on the foundation of self-governance, our success rested on engaging ordinary citizens in the work of securing our birthright liberties. Together, with countless unsung heroes equally committed to the idea that America is a constant work in progress, he heeded the call etched into our founding documents nearly two centuries before his time, marching and sacrificing for the idea of a fair, just, and inclusive society. By preaching his dream of a day when his children would be judged by the content of their character—rather than by the color of their skin—he helped awaken our Nation to the bitter truth that basic justice for all had not yet been realized. And in his efforts, he peaceably yet forcefully demonstrated that it is not enough to only have equal protection under the law, but also that equal opportunity for all of our Nation's children is necessary so that they can shape their own destinies.

Today, we celebrate the long arc of progress for which Dr. King and so many other leaders fought to bend toward a brighter day. It is our mission to fulfill his vision of a Nation devoted to rejecting bigotry in all its forms; to rising above cynicism and the belief that we cannot change; and to cherishing dignity and opportunity not only for our own daughters and sons, but also for our neighbors' children.

We have made great advances since Dr. King's time, yet injustice remains in many corners of our country. In too many communities, the cycle of poverty persists and students attend schools without adequate resources—some that serve as a pipeline to prison for young people of color. Children still go to bed hungry, and the sick go without sufficient treatment in neighborhoods across America. To put up blinders to these realities or to intimate that they are inherent to a Nation as large and diverse as ours would do a disservice to those who fought so hard to ensure ours was a country dedicated to the proposition that all people are created equal.

“We may have all come on different ships, but we're in the same boat now,” Dr. King once said. As the most diverse country on Earth, ensuring this creed is reflected in our hearts, minds, and policies is the imperative of our citizenship. As Americans of all races and beliefs come together on this day of service to honor the life and legacy of the Reverend Dr. Martin Luther King, Jr., let us pledge to recognize the common humanity of all people, regardless of the color of their skin or the station into which they were born.

NOW, THEREFORE, I, BARACK OBAMA, President of the United States of America, by virtue of the authority vested in me by the Constitution and the laws of the United States, do hereby proclaim January 18, 2016, as the Martin Luther King, Jr., Federal Holiday. I encourage all Americans to observe this day with appropriate civic, community, and service projects in honor of Dr. King and to visit www.MLKDay.gov to find Martin Luther King, Jr., Day of Service projects across our country.

IN WITNESS WHEREOF, I have hereunto set my hand this fifteenth day of January, in the year of our Lord two thousand sixteen, and of the Independence of the United States of America the two hundred and fortieth.

[FR Doc. 2016-01324

Filed 1-20-16; 11:15 am]

Billing code 3295-F6-P